DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before May 24, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit No. TE-830213

Applicant: EcoPlan Associates, Mesa, Arizona.

Applicant requests a new permit for research and recovery purposes to conduct presence/absence surveys for the endangered woundfin (Plagopterus argentissimus) and Virgin River chub (Gila seminude) in Arizona.

Permit No. TE-149494

Applicant: Stephen Christian d'Orgeix, Petersburg, Virginia.

Applicant requests a new permit for research and recovery purposes to conduct presence/absence surveys for the endangered Sonoyta pupfish (Cyprinodon eremus) associated with Mexican garter snake (Thamnophis eques) research within Santa Cruz County, Arizona.

Permit No. TE-149153

Applicant: Kyle Winters, Moore, Oklahoma.

Applicant requests a new permit for research and recovery purposes to conduct presence/absence surveys for the American burying beetle (Nicrophorus americanus) and translocations away from construction projects within Oklahoma and Arkansas.

Permit No. TE-060125

Applicant: Salt River Project, Phoenix, Arizona.

Applicant requests a permit amendment for research and recovery purposes to survey for Gila topminnow (Poeciliopsis occidentalis occidentalis) along Lime Creek, above Horseshoe Reservoir in Arizona.

Permit No. TE-149902

Applicant: Hope Woodward, La Mesa, New Mexico.

Applicant requests a new permit for research and recovery purposes conduct presence/absence surveys for the southwestern willow flycatcher (Empidonax traillii extimus).

Permit No. TE-039716

Applicant: Paul Marsh, Arizona State University, School of Life Sciences, Tempe, Arizona.

Applicant requests an amendment to an existing permit to add monitoring and sampling for Gila chub (Gila intermedia) within Arizona.

Permit No. TE-122838

Applicant: Gumm, Jennifer, New Mexico and Texas.

Applicant requests a permit amendment for research and recovery purposes to conduct a study of mating behaviors of Comanche Springs pupfish (Cyprinodon elegans). This will require collecting individuals, placing them is small bottles, and presenting them to other free swimming Comanche Springs pupfish in the population before released unharmed within San Solomon Springs at Balmorhea State Park located in Toyahvale, Texas. Applicant also requests a permit amendment for research and recovery purposes for genetic analysis of Pecos gambusia (Gambusia nobilis) in Diamond Y Spring, Texas; Balmorhea State Park, Texas; Bitter Lake National Wildlife Refuge, New Mexico; Blue Spring, New Mexico. Fish collection methods are to be limited to minnow traps, seining, and dip nets.

Permit No. TE-22838

Applicant: Martin, Keith, Oklahoma.

Applicant requests a permit for research and recovery purposes to mist net in upland, woodland, and riparian habitat to determine species richness and use of harp traps at cave entrances to determine colony compositions of Gray bat (Myotis grisescens), Indiana bat (Myotis sodalis), and Ozark Big-eared bat (Corynorhinus townsendii ingens) in Adair, Cherokee, Delaware, Leflore, and Ottawa counties, Oklahoma.

Permit No. TE-820022

Applicant: PBS&J, Austin, Texas.

Applicant requests a permit renewal for research and recovery purposes to conduct surveys for the American burying beetle (Nicrophorus americanus) in Arkansas, Oklahoma, and Texas.

Permit No. TE-150490

Applicant: Maresh, John, Texas.

Applicant requests a new permit to conduct presence/absence surveys for the golden-cheeked warbler (Dendroica chryoparia) and black capped-vireo (Vireo atricapilla) for research and recovery purposes in central and west central Texas.

Permit No. TE-037155

Applicant: Bio-West, Logan, Utah.

Applicant requests an amendment to their permit for research and recovery purposes conduct presence/absence surveys for black-capped vireo (Vireo atricapillus), golden-cheeked warbler (Dendroica chrysoparia), northern Aplomado falcon (Falco femoralis septentrionalis), piping plover (Charadrius melodus), red-cockaded woodpecker (Picoides (=Dendrocopos) borealis), interior least tern (Sterna antillarum), Concho water snake (Nerodia paucimaculata (=harteri p.)), Barton Springs salamander (Eurycea sosorum), Houston Toad (Bufo houstonensis), Texas Blind Salamander (Typhlomolge rathbuni), and karst invertebrates, including: (Rhadine exilis) ground beetle, no common name, (Rhadine infernalis) ground beetle, no common name, (Batrisodes venyivi) Helotes mold beetle, (Texella cokendolpheri) Cokendolpher cave harvestman, (Cicurina baronia) Robber Baron Cave meshweaver, (Cicurina madla) Madla cave meshweaver, (Cicurina venii) Bracken Bat Cave meshweaver, (Cicurina vespera) Government Canyon Bat Cave meshweaver, (Neoleptoneta microps) Government Canyon Bat Cave spider, (Neoleptoneta myopica) Tooth Cave spider, (Texella reddelli) Bee Creek Cave harvestman, (Texella reyesi) Bone Cave harvestman, (Rhadine Persephone) Tooth Cave ground beetle, (Texamaurops reddelli) Kretschmarr Cave mold beetle, (Batrisodes texanus) Coffin Cave mold beetle, (Tartarocreagris texana) Tooth Cave pseudoscorpion.

Permit No. TE-151216

Applicant: Larry Stevens, Flagstaff, Arizona.

Applicant requests a new permit for research and recovery purposes to conduct surveys and salvage dead specimens of humpback chub (Gila cypha), Kanab ambersnail (Oxyloma haydeni kanabensis), and southwestern willow flycatcher (Epidonax trailii extimus) within northern Arizona.

Permit No. TE-150338

Applicant: Crouch Environmental, Houston, Texas.

Applicant requests a new permit for research and recovery purposes to conduct presence/absence surveys for the following species within Texas: black-capped vireo (Vireo atricapillus), golden-cheeked warbler (Dendroica chrysoparia), red-cockaded woodpecker (Picoides (=Dendrocopos) borealis), whooping crane (Grus americana) Houston Toad (Bufo houstonensis), Chisos Mt. hedgehog cactus (Echinocereus chisoensis (=reichenbachii) var. chisoensis), Navasota ladies' tresses (Spiranthes parksii), and Texas prairiedawn (Hymenoxys texana).

Authority: 16 U.S.C. 1531, et seq.

Dated: April 5, 2007.
Christopher T. Jones,
Acting Regional Director, Region 2, Albuquerque, New Mexico.

[FR Doc. E7-7748 Filed 4-23-07; 8:45 am]

BILLING CODE 4310-55-P